Title 3—

The President

Presidential Determination No. 2009-5 of October 17, 2008

Presidential Determination With Respect To Foreign Governments' Efforts Regarding Trafficking In Persons

Memorandum for the Secretary of State

Consistent with section 110 of the Trafficking Victims Protection Act of 2000 (Division A of Public Law 106-386), as amended, (the “Act”), I hereby:

Make the determination provided in section 110(d)(1)(A)(i) of the Act, with respect to Burma, the Democratic People's Republic of Korea (DPRK), and Syria, not to provide certain funding for those countries' governments for Fiscal Year 2009, until such government complies with the minimum standards or makes significant efforts to bring itself into compliance, as may be determined by the Secretary of State in a report to the Congress pursuant to section 110(b) of the Act;

•

Make the determination provided in section 110(d)(1)(A)(ii) of the Act, with respect to Cuba and Iran not to provide certain funding for those countries' governments for Fiscal Year 2009, until such government complies with the minimum standards or makes significant efforts to bring itself into compliance, as may be determined by the Secretary of State in a report to the Congress pursuant to section 110(b) of the Act;

•

Make the determination provided in section 110(d)(3) of the Act, concerning the determination of the Secretary of State with respect to Moldova and Oman;

•

Determine, consistent with section 110(d)(4) of the Act, with respect to Algeria, Fiji, Kuwait, Papua New Guinea, Qatar, Saudi Arabia, and Sudan, that provision to these countries' governments of all programs, projects, or activities of assistance described in sections 110(d) (1)(A)(i) and 110(d)(1)(B) of the Act would promote the purposes of the Act or is otherwise in the national interest of the United States;

•

Determine, consistent with section 110(d)(4) of the Act, with respect to the DPRK, that a partial waiver to allow funding for programs described in section 110(d)(1)(A)(i) of the Act that support the goals of the Six-Party talks would promote the purposes of the Act or is otherwise in the national interest of the United States; and

•

Determine, consistent with section 110(d)(4) of the Act, with respect to Iran, that a partial waiver to allow funding for educational and cultural exchange programs described in section 110(d)(1)(A)(ii) of the Act would promote the purposes of the Act or is otherwise in the national interest of the United States.

You are hereby authorized and directed to submit this determination and the certification required by section 110(e) of the Act to the Congress and to publish this determination in the Federal Register.

THE WHITE HOUSE,

Washington, October 17, 2008

[FR Doc. E8-25816

Filed 10-27-08; 8:45 am]

Billing code 4710-10-P